DEPARTMENT OF COMMERCE

U.S. Census Bureau

Proposed Information Collection; Comment Request; Generic Clearance for the 2020 Census Field Tests

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 29, 2012.

ADDRESSES: Direct all written comments to Jennifer Jessup, Departmental Paperwork Clearance Officer, Department of Commerce, Room 6616, 14th and Constitution Avenue NW., Washington, DC 20230, (202) 482-0336 (or via the Internet at jjessup@doc.gov).

FOR FURTHER INFORMATION CONTACT: Requests for additional information or copies of the information collection instrument(s) and instructions should be directed to Erin Love, Census Bureau, HQ-3H468E, Washington, DC 20233; (301) 763-2034 (or via the Internet at erin.s.love@census.gov).

SUPPLEMENTARY INFORMATION:

I. Abstract

The U.S. Census Bureau is committed to conducting research towards a 2020 Census that costs less while maintaining high quality results. The Census Bureau plans to conduct a series of small-scale tests to research and evaluate how the use of automation can improve field data collection activities. These tests will explore how the Census Bureau can use automated processes to improve efficiency, improve data quality, and reduce respondent burden. Examples of census operations that might be included are: mapping and address listing; enumeration; and quality control checks.

This information collection will operate as a generic clearance. The estimated number of respondents and annual reporting hours requested cover both the known and yet to be determined tests. A generic clearance is needed for these tests because though each share similar methodology, the exact number of tests and the explicit details of each test to be performed has yet to be determined. The Census Bureau plans to conduct each test in small geographic areas. Once information collection plans are defined, they will be submitted on an individual basis in order to keep OMB informed as these tests progress.

The Census Bureau plans to test the use of mobile computing devices and applications in field data collection tasks. Field data collection tasks can include: Address listing and mapping, enumeration functions (including the administration of a questionnaire, scheduling of visits, collecting housing unit status, and adding new households); and quality control functions for both listing and enumeration.

Address Listing and Mapping Tasks

The scope of these tests will research using a mobile computing device and applications to: Create, add, delete, and correct an address list; load work assignments; measure production, record GPS coordinates; transmit and download data; and use geographic information obtained from other data sources. The overall goal of the tests is to improve accuracy and productivity in field activities while collecting the necessary data. Address and feature information will be primarily collected by observation. In cases where address or feature information is not observable or verifiable, a household or other knowledgeable respondent may be contacted to collect this information.

Enumeration Functions

The enumeration functions research will focus on using various applications and mobile computing devices to enumerate households and persons. The research and evaluation may include: developing an automated enumeration questionnaire, usability issues; conducting interviews; scheduling return visits; recording contact outcomes, recording the status of a housing unit (such as occupied or vacant); adding addresses; making work assignments; measuring production; ability to toggle to a Spanish instrument; enumerator routing; and transmission of data. To test enumeration functions, the Census Bureau may conduct the enumeration directly with a household member or knowledgeable respondent. The Census Bureau has not yet determined the questions to ask households or knowledgeable respondents but will inform OMB as tests are developed.

Quality Control Functions

The quality control functions research is to test quality control functions and applications on different mobile computing devices for both listing and enumeration. The scope of the tests may include: revisiting areas and households to verify information collected in previous operations; correcting and adding map features, addresses, and households; apply pass/fail requirements; and to use and record map spots in GPS and manual modes. The Census Bureau has not yet determined the questions to ask households or knowledgeable respondents to test quality control functions but will inform OMB as tests are developed.

II. Method of Collection

The information will be collected on mobile computing devices through observations, face-face interviews, and/or telephone interviews.

III. Data

OMB Control Number: None.

Form Number: Not yet determined.

Type of Review: Regular submission.

Affected Public: Individuals or households.

Estimated Number of Respondents: 13,000 total.

Estimated Time per Response: 10 minutes.

Estimated Total Annual Burden Hours: 723 hours annual average, total estimate of 2,167.

Estimated Total Annual Cost: There is no cost to the respondent other than time to answer the information request.

Respondents Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 23, 2012.
Glenna Mickelson,
Management Analyst, Office of the Chief Information Officer.

[FR Doc. 2012-7431 Filed 3-27-12; 8:45 am]

BILLING CODE 3510-07-P